DEPARTMENT OF THE TREASURY

Internal Revenue Service

Privacy Act of 1974: Computer Matching Program

AGENCY: Internal Revenue Service, Treasury.

ACTION: Notice.

SUMMARY: Pursuant to section 552a(e)(12) of the Privacy Act of 1974, as amended, and the Office of Management and Budget (OMB) Guidelines on the Conduct of Matching Programs, notice is hereby given of the conduct of the Internal Revenue Service Taxpayer Address Request (TAR) Computer Matching Program. The matching activities are conducted in accordance with pertinent provisions of section 6103 of the Internal Revenue Code of 1986.

EFFECTIVE DATE: This notice will be effective November 15, 2000.

ADDRESSES: Inquiries may be mailed to the Director, Governmental Liaison and Disclosure, Internal Revenue Service, 1111 Constitution Ave., NW. Washington, DC 20224.

FOR FURTHER INFORMATION CONTACT: M.R. Taylor, Project Manager, Office of Governmental Liaison, Internal Revenue Service, 202-622-5145.

SUPPLEMENTARY INFORMATION: The computer matching programs provide Federal, State, and local agencies with tax information from IRS records to assist them in administering the programs and activities described below. The purpose of these programs is to prevent or reduce fraud and abuse in certain Federally assisted benefit programs and facilitate the settlement of government claims while protecting the privacy interest of the subjects of the match.

The matches are conducted on an on-going basis in accordance with the terms of the Computer Matching Agreement in effect with each participant as approved by the Data Integrity Boards of the Federal agencies, and for the period of time specified in such agreement. Members of the public desiring specific information concerning an on-going matching activity may request a copy of the agreement at the address provided above.

Matches Conducted Pursuant to IRC 6103(m)(2)

(A) In general, except as provided in subparagraph (B), the Service may, upon written request, disclose the mailing address of a taxpayer for use by officers, employees, or agents of a Federal agency for purposes of locating such taxpayer to collect or compromise a Federal claim against the taxpayer in accordance with sections 3711, 3717, and 3718 of title 31.

(B) In the case of an agent of a Federal agency which is a consumer reporting agency (within the meaning of section 603(f) of the Fair Credit Reporting Act, (15 U.S.C. 1681a(f)), the mailing address of a taxpayer may be disclosed to such agent under subparagraph (A) only for the purpose of allowing such agent to prepare a commercial credit report on the taxpayer for use by such Federal agency in accordance with sections 3711, 3717, and 3718 of title 31.

The IRS information provided is extracted weekly from the Individual Master File (IMF) (Treasury IRS 24.030).

Federal agencies expected to participate in (m)(2) matches and their Privacy Act systems of records are:

1. Department of Housing and Urban Development Albany Financial Operations Center, Accounting Records (HUD/DEPT-2);

2. U.S. Department of Justice, Debt Collection and Management System (JUSTICE/JMD-006);

3. Department of Veterans Affairs, Accounts Receivable Records—VA (88VA244);

4. Social Security Administration Master Beneficiary Record (HHS/SSA/OSR 09-60-0090); and the Supplemental Security Income Record and Special Veterans Benefits (SSA/OSR 60-0103); and

5. U.S. Department of Education Student Financial Assistance Collection Files (18-11-07).

Matches Conducted Pursuant to IRC 6103(m)(4)

In general, upon written request from the Secretary of Education, the Service may disclose the mailing address of any taxpayer who owes an overpayment of a grant awarded to such taxpayer under subpart 1 of part A of title IV of the Higher Education Act of 1965, or who has defaulted on a loan made under part B, D, or E of title IV of the Higher Education Act of 1965, or made pursuant to section 3(a)(1) of the Migration and Refugee Assistance Act of 1962 to a student at an institution of higher education.

This section further provides for the redisclosure by the Secretary of Education of a taxpayer's mailing address to any lender, or any State or nonprofit guarantee agency, participating under part (B) or (D) of title IV of the Higher Education Act of 1965, or any educational institution with which the Secretary of Education has an agreement under subpart 1 of part A, or part D, or E, of title IV of such Act. Redisclosure is made by the Secretary of Education for use only by officers, employees, or agents of such lender, guarantee agency, or institution whose duties relate to the collection of student loans for purposes of locating individuals who have defaulted on student loans made under such program for purposes of collecting such overpayment or loan.

The IRS information provided is extracted from the IMF (Treasury IRS 24.030). The U.S. Department of Education matches the title IV Program File [18-40-0024] with the IMF.

Matches Conducted Pursuant to IRC 6103(m)(5)

Upon written request from the Secretary of Health and Human Services (HHS), the Service may disclose the mailing address of any taxpayer who has defaulted on a loan made under part C of title VII of the Public Health Service Act or under subpart II of part B of title VIII of such Act, for use only by officers, employees, or agents of the Department of Health and Human Services for purposes of locating such taxpayer for purposes of collecting such loans. At this time there is no agreement to disclose information pursuant to IRC 6103(m)(5).

Beginning and Completion Dates

The matches are conducted on an ongoing basis in accordance with the terms of the computer matching agreement in effect with each participant as approved by the Data Integrity Boards of both agencies. The term of these agreements is expected to cover the 18-month period, September 1, 2000 through February 28, 2002. Ninety days prior to expiration of the agreement, the parties to the agreement may request a 12-month extension in accordance with 5 U.S.C. 552a(o). The extension would cover the period March 1, 2002 through February 28, 2003.

Dated: September 29, 2000.
W. Earl Wright, Jr.,
Chief Management and Administrative Programs Officer.

[FR Doc. 00-25569 Filed 10-13-00; 8:45 am]

BILLING CODE 4830-01-P